DEPARTMENT OF ENERGY

Procedures for Conducting Electric Transmission Congestion Studies

AGENCY: Office of Electricity, Department of Energy (DOE).

ACTION: Notice of reopening of public comment period.

SUMMARY: The Department of Energy (Department or DOE) is reopening for 15 days the comment period for its proposed procedures for conducting electric transmission studies. DOE published a notice of procedures for studies and request for written comments on August 23, 2018, with a 45-day comment period. This notice reopens the comment period for an additional 15 days, and any comments received before November 1, 2018 will be deemed timely submitted.

DATES: DOE is reopening the comment period for the “Procedures for Conducting Electric Transmission Congestion Studies” published on August 23, 2018 (83 FR 42627). The public comment period closed on October 9, 2018. Public comments are due not later than November 1, 2018.

ADDRESSES: You may submit written comments to congestion.study2018@hq.doe.gov, or by mail to the Office of Electricity, OE-20, U.S. Department of Energy, 1000 Independence Avenue SW, Washington, DC 20585. The following electronic file formats are acceptable: Microsoft Word (.doc), Corel Word Perfect (.wpd), Adobe Acrobat (.pdf), Rich Text Format (.rtf), plain text (.txt), Microsoft Excel (.xls), and Microsoft PowerPoint (.ppt).

Delivery of the U.S. Postal Service mail to DOE may be delayed by several weeks due to security screening. DOE, therefore, encourages those wishing to comment to submit their comments electronically by email. If comments are submitted by regular mail, the Department requests that they be accompanied by a CD containing electronic files of the submission.

The Department intends to use only data that are publicly available for this study. Accordingly, please do not submit information that you believe is or should be protected from public disclosure. DOE is responsible for the final determination concerning disclosure or nondisclosure of information submitted to DOE and for treating the information in accordance with the Department's Freedom of Information Act regulations (10 CFR 1004.11). All comments received by DOE regarding the congestion study will be posted on http://energy.gov/oe/congestion-study for public review.

FOR FURTHER INFORMATION CONTACT: David Meyer, DOE Office of Electricity, (202) 586-3876, david.meyer@hq.doe.gov.

SUPPLEMENTARY INFORMATION: On August 23, 2018, DOE published “Procedures for Conducting Electric Transmission Congestion Studies” and requested written comment by October 9, 2018. (83 FR 42647). DOE is reopening the comment period for an additional 15 days. Written comments must now be received not later than November 1, 2018, and any comments received by November 1, 2018 will be deemed timely submitted.

DOE recognizes that some commenters may wish to draw upon or point to studies or analyses that are now in process and may not be completed. DOE requests that commenters submit such materials as they become available. All comments and information received will be posted on http://www.regulations.gov and at http://energy.gov/oe/congestion-study . DOE emphasizes that materials submitted after December 31, 2018, will not be included in the study.

Signed in Washington, DC, on October 9, 2018.
Catherine Jereza,
Deputy Assistant Secretary, Transmission Planning and Technical Assistance, Office of Electricity, U.S. Department of Energy.

[FR Doc. 2018-22648 Filed 10-16-18; 8:45 am]

BILLING CODE 6450-01-P